DEPARTMENT OF HEALTH AND HUMAN SERVICES

Centers for Disease Control and Prevention

[60 Day-01-55]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Evaluating the Impact of Lymphedema and a Lymphedema Management Intervention for Women with Lymphatic Filariasis: Understanding Issues Related to Quality of Life—New—National Center for Infectious Diseases (NCID), Centers for Disease Control and Prevention (CDC). Lymphatic filariasis, a mosquito-transmitted parasitic disease affecting over 120 million people, is the second leading cause of permanent disability worldwide. Globally, lymphatic filariasis causes debilitating genital disease in an estimated 25 million men and lymphedema or elephantiasis of the leg in 15 million people, mostly women in poverty stricken countries. The World Health Organization (WHO) recently identified community management of chronic lymphedema as one of the top twenty lymphatic filariasis research priorities. Recent advances in the management of chronic lymphedema include a prescribed hygiene and wound care intervention. This intervention has shown promising results in preventing bacterial infections thus reducing acute attacks, and anecdotally improving overall quality of life, alleviating pain and preventing further suffering.

This pilot study will provide a micro-level perspective of women's own experiences of living with lymphedema and others responses to it, illuminating the nature of the disease, the vulnerability of those disabled by the disease, and the impact of an intervention to influence the consequences of having the disease. This study will provide a better understanding, through a combination of qualitative and quantitative methods, the influence of lymphadema as well as the efficacy of a lymphedema management intervention in reducing episodes of bacterial infections and improving quality of life in women with lymphedema in two developing countries.

Women will be queried through in-depth interviews, focus groups, and questionnaire surveys as to the influence of lymphadema on their lives. Quality of life domains that will be explored include physical health, psychological health, social relationships, economic productivity, spiritual health, stigma, and environment. Recommendations will be derived from this study for the global community of lymphatic filariasis researchers in developing countries initiating national and local programs for the management of chronic lymphedema. There are no costs to respondents.

Women respondents | Number of respondents | Number of responses per respondents | Average burden per response (in hours) | Total burden (in hours)
Qualitative interviews in site A and site B | 50 | 1 | 30/60 | 25
Quantitative Survey in site A and site B | 200 | 1 | 1 | 200
Total | 250 |  |  | 225

Dated: July 30, 2001.
Nancy Cheal,
Acting Associate Director for Policy, Planning and Evaluation, Centers for Disease Control and Prevention.

[FR Doc. 01-19656 Filed 8-6-01; 8:45 am]

BILLING CODE 4163-18-P